DEPARTMENT OF TRANSPORTATION

[Docket No. FRA 2016-0002-N-2]

Federal Railroad Administration

Proposed Agency Information Collection Activities; Comment Request

AGENCY: Federal Railroad Administration, DOT.

ACTION: Notice.

SUMMARY: In accordance with the Paperwork Reduction Act of 1995 (PRA) and its implementing regulations, FRA is seeking an extension of the following currently approved information collection. On December 28, 2015, FRA published a Notice in the Federal Register stating that FRA was submitting an Information Collection Request (ICR) to the Office of Management and Budget (OMB) for new Form FRA F 6180.164, Positive Train Control Implementation Plan (PTCIP) Template, under the PRA Emergency Processing procedures. See 80 FR 80876. On January 6, 2016, OMB granted FRA's request for Emergency Processing approval for a period of 180 days. FRA now seeks a Regular clearance (extension of the current approval from 180 days to three years) to continue this effort to assist railroads in submitting revised PTCIPs to FRA as Congress mandated under amendments to 49 U.S.C. 20157. Before submitting the ICR requirements for OMB clearance, FRA is soliciting public comment on specific aspects of the ICR, as identified below.

DATES: Comments must be received no later than March 28, 2016.

ADDRESSES: Submit written comments on any or all of the following proposed activities by mail to either: Mr. Robert Brogan, Information Collection Clearance Officer, Office of Safety, Planning and Evaluation Division, RRS-21, Federal Railroad Administration, 1200 New Jersey Ave. SE., Mail Stop 17, Washington, DC 20590, or Ms. Kimberly Toone, Information Collection Clearance Officer, Office of Information Technology, RAD-20, Federal Railroad Administration, 1200 New Jersey Ave. SE., Mail Stop 35, Washington, DC 20590. Commenters requesting FRA to acknowledge receipt of their respective comments must include a self-addressed stamped postcard stating, “Comments on OMB control number 2130-0553.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Planning and Evaluation Division, RRS-21, Federal Railroad Administration, 1200 New Jersey Ave. SE., Mail Stop 17, Washington, DC 20590 (telephone: (202) 493-6292) or Ms. Kimberly Toone, Information Collection Clearance Officer, Office of Information Technology, RAD-20, Federal Railroad Administration, 1200 New Jersey Ave. SE., Mail Stop 35, Washington, DC 20590 (telephone: (202) 493-6132). (These telephone numbers are not toll-free.)

SUPPLEMENTARY INFORMATION: The PRA, Public Law 104-13, sec. 2, 109 Stat. 163 (1995) (codified as revised at 44 U.S.C. 3501-3520), and its implementing regulations, 5 CFR part 1320, require federal agencies to provide 60-days' notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with this voluntary collection of information. In summary, FRA believes that comments received will advance three objectives: (1) Reduce reporting burdens; (2) ensure that FRA organizes information collection requirements in a “user-friendly” format to improve the use of such information; and (3) accurately assess the resources expended to retrieve and produce the information requested. See 44 U.S.C. 3501.

Below is a brief summary of the currently approved information collection activity FRA will submit for clearance by OMB as required under the PRA:

Title: Positive Train Control.

OMB Control Number: 2130-0553.

Abstract: The recently enacted Positive Train Control Enforcement and Implementation (PTCEI) Act of 2015 and the Fixing America's Surface Transportation (FAST) Act (collectively, the “Acts”) amend certain portions of 49 U.S.C. 20157 relating to positive train control (PTC) system implementation. See Public Law 114-73, 129 Stat. 568, 576-82 (Oct. 29, 2015); Public Law 114-94, sec. 11315(d), 129 Stat. 1312, 1675 (Dec. 4, 2015). Most notably, the provisions within these Acts extend the implementation deadline originally established by the Rail Safety Improvement Act of 2008 (RSIA) and require covered railroads and entities to each submit a revised PTC Implementation Plan (PTCIP) with additional information to meet its new deadline.

FRA is proposing to provide a PTCIP template to assist each railroad with complying with the new law's requirement to submit a revised PTCIP to FRA. More specifically, each railroad may voluntarily opt to use FRA's proposed template to concisely organize and present certain quantitative (i.e., measurable) data about its PTC implementation efforts and its projected timeframe for completing PTC implementation. Although some of this information may have been provided by each railroad in the past, the Acts now require submission of specific measurable data as part of each railroad's revised PTCIP. The quantitative information includes:

• The calendar year(s) when wireless spectrum required for PTC operation will be acquired and available for use;

• The total amount of PTC hardware the railroad must install (broken down by each major hardware category);

• The total amount of PTC hardware the railroad will install by the end of each calendar year (broken down by each major hardware category);

• The total number of employees the railroad must train; and

• The total number of employees that will receive training by the end of each calendar year.

FRA believes that providing an optional template will serve as guidance to railroads by reducing confusion about the necessary level of detail required for the quantitative requirements. Furthermore, the optional template will help to expedite submitting this information to FRA and FRA's review for statutory and regulatory compliance, particularly for those railroads that may not have been tracking these details previously. FRA has provided the template on its Web site for use by all interested parties at https://www.fra.dot.gov/eLib/Details/L17235.

Affected Public: Businesses.

Frequency of Submission: On occasion.

Respondent Universe: Approximately 38 railroads.

Reporting Burden:

PTCIP template | Respondent universe | Total annual responses | Average time per response (hours) | Total annual burden hours
Form FRA F 6180.164 | 38 Railroads | 38 Forms | 50 | 1,900

Form Number(s): FRA F 6180.164.

Total Estimated Responses: 38.

Total Estimated Annual Burden: 1,900 hours.

Status: Regular Review.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on January 20, 2016.
Corey Hill,
Acting Executive Director.

[FR Doc. 2016-01475 Filed 1-25-16; 8:45 am]

BILLING CODE 4910-06-P